DEPARTMENT OF JUSTICE

Notice of Lodging of Consent Decree Under the Resource Conservation and Recovery Act

Notice is hereby given that, on February 16, 2005, a proposed Consent Decree in United States v. Shell Oil Company, et al., Civil Action No. 05-1175 FMC PJWx, was lodged with the United States District Court for the Central District of California Western Division. In this action, the United States brought suit against Shell Oil Company, Shell Oil Products LLC (as successor in interest to Shell Oil Products Company), Equilon Enterprises LLC, Shell Pipeline Company LP (for itself and as successor in interest to Equilon Pipeline Company), TRM Company (formerly known as Texaco Refining & Marketing Company, ChevronTexaco Corporation, Chevron USA Inc., Exxon Mobil Corporation, Mobil Oil Corporation, ExxonMobil Corporation, Thrifty Oil Co., and Best California Gas, Ltd. (“Oil Companies”) pursuant to section 9003(h)(2) and section 9003(h)(6)(A) of the Resource Conservation and Recovery Act (“RCRA”), 42 U.S.C. 6991b(h)(2) and 6991b(h)(6)(A), seeking reimbursement of costs incurred in connection with the Charnock Sub-Basin located in the vicinity of Santa Monica, California. The complaint alleges that the releases of petroleum containing MTBE and other constituents from underground storage tanks owned or operated by Defendants contributed to the contamination of the Charnock Sub-Basin. Under the terms of the Consent Decree, the Oil Companies agree to pay $1.5 million to reimburse the United States' costs relating to the Charnock Sub-Basin.

Pursuant to 28 CFR 50.7, the Department of Justice will receive, for a period of thirty (30) days from the date of this publication, comments relating to the Consent Decree. Comments should be addressed to the Assistant Attorney General, Environment and Natural Resources Division, P.O. Box 7611, U.S. Department of Justice, Washington, DC 20044-7611, and should refer to United States v. Shell Oil Company, et al., D.J. Ref. #90-11-3-1727.

The Consent Decree may be examined during the public comment period on the following Department of Justice Web site: http://www.usdoj.gov/enrd/open.html. A copy of the Consent Decree may also be obtained by mail from the Consent Decree Library, U.S. Department of Justice, P.O. Box 7611, Ben Franklin Station, Washington, DC 20044-7611 or by faxing or e-mailing a request to Tonia Fleetwood (tonia.fleetwood@usdoj.gov), fax number (202) 514-0097, phone confirmation number (202) 514-1547. In requesting a copy from the Consent Decree Library, please enclose a check in the amount of $10.75 (25 cents per page reproduction cost) payable to the U.S. Treasury. Additional information on the Charnock MTBE contamination site and the current status of the cleanup may be found at http://www.epa.gov/region09/charnock.

Ellen M. Mahan,
Assistant Chief, Environmental Enforcement Section, Environment and Natural Resources Division.

[FR Doc. 05-5197 Filed 3-15-05; 8:45 am]

BILLING CODE 4410-15-M